ENVIRONMENTAL PROTECTION AGENCY

[FRL-10021-31-OP]

Request for Nominations of Candidates to the EPA's Science Advisory Board (SAB)

AGENCY: Environmental Protection Agency (EPA).

ACTION: Notice.

SUMMARY: The U.S. Environmental Protection Agency (EPA) invites nominations of scientific experts from a diverse range of disciplines to be considered for appointment to the EPA Science Advisory Board (SAB) described in this notice. Appointments will be announced by the Administrator.

DATES: Nominations should be submitted no later than May 3, 2021.

FOR FURTHER INFORMATION CONTACT: For information about the chartered SAB membership appointment process and schedule, please contact Dr. Suhair Shallal, DFO, by telephone at (202) 564-2057 or by email at shallal.suhair@epa.gov or Dr. Thomas Armitage, DFO, by telephone at (202) 564-2155 or by email at armitage.thomas@epa.gov.

SUPPLEMENTARY INFORMATION: Background: The SAB is a chartered Federal Advisory Committee, established in 1978, under the authority of the Environmental Research, Development and Demonstration Authorization Act (ERDDAA), codified at 42 U.S.C. 4365, to provide independent scientific and technical peer review, consultation, advice and recommendations to the EPA Administrator. Members of the SAB constitute a distinguished body of non-EPA scientists, engineers, and economists who are nationally and internationally recognized experts in their respective fields. Members are appointed by the EPA Administrator to serve as Special Government Employees and provide independent expert advice to the agency for a term of up to three years. Additional information about the SAB is available at http://www.epa.gov/sab.

Expertise Sought for the Sab: The chartered SAB provides scientific advice to the EPA Administrator on a variety of EPA science and research topics. All the work of SAB standing committees and ad-hoc panels is conducted under the auspices of the chartered SAB. The chartered SAB reviews all SAB standing committee and ad-hoc panel draft reports and determines whether each exhibits the high quality and meets the SAB's criteria to deliver to the EPA Administrator. The SAB Staff Office invites nominations of individuals to serve on the chartered SAB with expertise or extensive experience in the following scientific disciplines and topics as they relate to human health and the environment: Air quality; agricultural sciences and economics; analytical chemistry; atmospheric sciences; benefit-cost analysis; chemical safety; climate science; citizen science; community environmental health; dose-response assessment; drinking water; drinking water engineering; ecological sciences and ecological assessment; ecological risk assessment; ecosystem services; economics; energy and the environment; engineering; environmental justice; epidemiology; exposure assessment; forestry; geochemistry; health sciences; human health risk assessment; hydrology; hydrogeology; medicine; microbiology; modeling; pediatrics; pesticide risk assessment, public health; physiologically based pharmacokinetic (PBPK) modeling; risk assessment; social, behavioral and decision sciences; statistics; sustainability; radiological risk assessment; toxicology; uncertainty analysis; water quality; water quantity and reuse; and waste management. For further information about the chartered SAB membership appointment process and schedule, please contact Dr. Suhair Shallal, DFO, by telephone at (202) 564-2057 or by email at shallal.suhair@epa.gov or Dr. Thomas Armitage, DFO, by telephone at (202) 564-2155 or by email at armitage.thomas@epa.gov.

Members selected to the Chartered SAB may also participate on standing committees of the SAB. These committees take the lead at evaluating specific peer review actions where SAB feedback is requested. Board members with demonstrated scientific credentials, disciplinary expertise in relevant fields, and experience may be asked to also participate on the following SAB Standing Committees:

• The Agricultural Science Committee;

• the Chemical Assessment Advisory Committee;

• the Climate Science Committee;

• the Drinking Water Committee;

• the Economic Analysis Committee;

• the Environmental Justice Science Committee; and,

• the Radiation Advisory Committee.

Selection Criteria for the SAB Includes

—Demonstrated scientific credentials and disciplinary expertise in relevant fields;

—Willingness to commit time to the committee and demonstrated ability to work constructively and effectively on committees;

—Background and experiences that would help members contribute to the diversity of perspectives on the committee, e.g., geographical, social, cultural, educational backgrounds, professional affiliations; and other considerations; and

—For the committee, the collective breadth and depth of scientific expertise is considered of the individual and holistically for the entire committee.

As the SAB and its standing committees and ad-hoc panels undertake specific advisory activities, the SAB Staff Office will consider two additional criteria for each new activity: Absence of financial conflicts of interest and absence of an appearance of a loss of impartiality.

How to Submit Nominations: Any interested person or organization may nominate qualified persons to be considered for appointment to these advisory committees. Individuals may self-nominate. Nominations should be submitted in electronic format using the online nomination form under the “Nomination of Experts” category at the bottom of the SAB home page at http://www.epa.gov/sab. To be considered, all nominations should include the information requested below. EPA values and welcomes diversity. All qualified candidates are encouraged to apply regardless of gender, race, disability, or ethnicity.

The following information should be provided on the nomination form: Contact information for the person making the nomination; contact information for the nominee; the disciplinary and specific areas of expertise of the nominee; the nominee's curriculum vitae; and a biographical sketch of the nominee indicating current position, educational background; research activities; sources of research funding for the last two years; and recent service on other national advisory committees or national professional organizations. To help the agency evaluate the effectiveness of its outreach efforts, please indicate how you learned of this nomination opportunity. Persons having questions about the nomination process or the public comment process described below, or who are unable to submit nominations through the SAB website, should contact a DFO as identified above. The SAB Staff Office will acknowledge receipt of nominations and invite the nominee to provide any additional information that the nominee feels would be useful in considering the nomination, such as availability to participate as a member of the committee; how the nominee's background, skills and experience would contribute to the diversity of the SAB; and any questions the nominee has regarding membership. The names and biosketches of qualified nominees identified by respondents to this Federal Register notice, and any additional experts identified by the SAB Staff Office, will be posted in a List of Candidates on the SAB website at http://www.epa.gov/sab. Public comments on each List of Candidates will be accepted for 21 days from the date the list is posted. The public will be requested to provide relevant information or other documentation on nominees that the SAB Staff Office should consider in evaluating candidates.

Candidates invited to serve will be asked to submit the “Confidential Financial Disclosure Form for Special Government Employees Serving on Federal Advisory Committees at the U.S. Environmental Protection Agency” (EPA Form 3110-48). This confidential form allows EPA to determine whether there is a statutory conflict between that person's public responsibilities as a Special Government Employee and private interests and activities, or the appearance of a loss of impartiality, as defined by Federal regulation. The form may be viewed and downloaded through the “Ethics Requirements for Advisors” link on the SAB home page at http://www.epa.gov/sab. This form should not be submitted as part of a nomination.

Dated: March 24, 2021.
V. Khanna Johnston,
Deputy Director, EPA Science Advisory Board Staff Office.

[FR Doc. 2021-06647 Filed 3-31-21; 8:45 am]

BILLING CODE 6560-50-P